DEPARTMENT OF ENERGY

Federal Energy Regulatory Commission

Combined Notice of Filings # 1

September 07, 2010.

Take notice that the Commission received the following electric corporate filings:

Docket Numbers: EC10-93-000.

Applicants: Macquarie Infrastructure Partners Inc., MIP II Biopower LLC.

Description: Application of Macquarie Infrastructure Partners Inc. and MIP II Biopower LLC for Authorization Under Section 203 of the FPA.

Filed Date: 09/02/2010.

Accession Number: 20100902-5187.

Comment Date: 5 p.m. Eastern Time on Thursday, September 23, 2010.

Docket Numbers: EC10-94-000.

Applicants: Tyr Keenan II, LLC, Tyr Wind, LLC, EFS Keenan II, LLC, CPV Keenan II Renewable Energy Company.

Description: Joint Application of CPV Keenan II Renewable Energy Company, LLC, et al. for Authorization Under FPA Section 203 for Disposition of Jurisdictional Facilities.

Filed Date: 09/03/2010.

Accession Number: 20100903-5227.

Comment Date: 5 p.m. Eastern Time on Friday, September 24, 2010.

Take notice that the Commission received the following electric rate filings:

Docket Numbers: ER99-3502-011.

Applicants: Berkshire Power Company, LLC.

Description: Berkshire Power Company, LLC Notice of Non-Material Change of Status.

Filed Date: 09/02/2010.

Accession Number: 20100902-5109.

Comment Date: 5 p.m. Eastern Time on Thursday, September 23, 2010.

Docket Numbers: ER08-912-012; ER07-460-014; ER04-94-024; ER05-1146-024; ER09-1723-008.

Applicants: Iberdrola Renewables; Shiloh I Wind Project LLC; Dillon Wind LLC; Dry Lake Wind Power, LLC.

Description: Southwest Seller submits supplement to notice of category 1 of seller status and Order 697 compliance filing.

Filed Date: 09/03/2010.

Accession Number: 20100907-0004.

Comment Date: 5 p.m. Eastern Time on Friday, September 24, 2010.

Docket Numbers: ER10-1599-001.

Applicants: Invenergy Cannon Falls LLC.

Description: Invenergy Cannon Falls LLC submits tariff filing per 35: Supplement to Category 1 Exemption Filing to be effective 11/3/2010.

Filed Date: 09/03/2010.

Accession Number: 20100903-5087.

Comment Date: 5 p.m. Eastern Time on Friday, September 24, 2010.

Docket Numbers: ER10-1601-001.

Applicants: Hardee Power Partners Limited.

Description: Hardee Power Partners Limited submits tariff filing per 35: Supplement to Category 1 Exemption Filing to be effective 11/3/2010.

Filed Date: 09/03/2010.

Accession Number: 20100903-5084.

Comment Date: 5 p.m. Eastern Time on Friday, September 24, 2010.

Docket Numbers: ER10-1603-001.

Applicants: Grand Ridge Energy LLC.

Description: Grand Ridge Energy LLC submits tariff filing per 35: Supplement to Category 1 Exemption Filing to be effective 11/3/2010.

Filed Date: 09/03/2010.

Accession Number: 20100903-5107.

Comment Date: 5 p.m. Eastern Time on Friday, September 24, 2010.

Docket Numbers: ER10-1604-001.

Applicants: Grand Ridge Energy II LLC.

Description: Grand Ridge Energy II LLC submits tariff filing per 35: Supplement to Category 1 Exemption Filing to be effective 11/3/2010.

Filed Date: 09/03/2010.

Accession Number: 20100903-5071.

Comment Date: 5 p.m. Eastern Time on Friday, September 24, 2010.

Docket Numbers: ER10-1605-001.

Applicants: Grand Ridge Energy III LLC.

Description: Grand Ridge Energy III LLC submits tariff filing per 35: Supplement to Category 1 Exemption Filing to be effective 11/3/2010.

Filed Date: 09/03/2010.

Accession Number: 20100903-5082.

Comment Date: 5 p.m. Eastern Time on Friday, September 24, 2010.

Docket Numbers: ER10-1608-001.

Applicants: Invenergy TN LLC.

Description: Invenergy TN LLC submits tariff filing per 35: Supplement to Category 1 Exemption Filing to be effective 11/3/2010.

Filed Date: 09/03/2010.

Accession Number: 20100903-5089.

Comment Date: 5 p.m. Eastern Time on Friday, September 24, 2010.

Docket Numbers: ER10-1609-001.

Applicants: Judith Gap Energy LLC.

Description: Judith Gap Energy LLC submits tariff filing per 35: Supplement to Category 1 Exemption Filing to be effective 11/3/2010.

Filed Date: 09/03/2010.

Accession Number: 20100903-5098.

Comment Date: 5 p.m. Eastern Time on Friday, September 24, 2010.

Docket Numbers: ER10-1610-001.

Applicants: Wolverine Creek Energy LLC.

Description: Wolverine Creek Energy LLC submits tariff filing per 35: Supplement to Category 1 Exemption Filing to be effective 11/3/2010.

Filed Date: 09/03/2010.

Accession Number: 20100903-5095.

Comment Date: 5 p.m. Eastern Time on Friday, September 24, 2010.

Docket Numbers: ER10-1611-001.

Applicants: Grays Harbor Energy LLC.

Description: Grays Harbor Energy LLC submits tariff filing per 35: Supplement to Category 1 Exemption Filing to be effective 11/3/2010.

Filed Date: 09/03/2010.

Accession Number: 20100903-5101.

Comment Date: 5 p.m. Eastern Time on Friday, September 24, 2010.

Docket Numbers: ER10-1612-001.

Applicants: Spring Canyon Energy LLC.

Description: Spring Canyon Energy LLC submits tariff filing per 35: Supplement to Category 1 Exemption Filing to be effective 11/3/2010.

Filed Date: 09/03/2010.

Accession Number: 20100903-5090.

Comment Date: 5 p.m. Eastern Time on Friday, September 24, 2010.

Docket Numbers: ER10-1613-001.

Applicants: Spindle Hill Energy LLC.

Description: Spindle Hill Energy LLC submits tariff filing per 35: Supplement to Category 1 Exemption Filing to be effective 11/3/2010.

Filed Date: 09/03/2010.

Accession Number: 20100903-5086.

Comment Date: 5 p.m. Eastern Time on Friday, September 24, 2010.

Docket Numbers: ER10-1614-001.

Applicants: Sheldon Energy LLC.

Description: Sheldon Energy LLC submits tariff filing per 35: Supplement to Category 1 Filing to be effective 11/3/2010.

Filed Date: 09/03/2010.

Accession Number: 20100903-5070.

Comment Date: 5 p.m. Eastern Time on Friday, September 24, 2010.

Docket Numbers: ER10-1615-001.

Applicants: Willow Creek Energy LLC.

Description: Willow Creek Energy LLC submits tariff filing per 35: Supplement to Category 1 Exemption Filing to be effective 11/3/2010.

Filed Date: 09/03/2010.

Accession Number: 20100903-5069.

Comment Date: 5 p.m. Eastern Time on Friday, September 24, 2010.

Docket Numbers: ER10-1692-001.

Applicants: California Independent System Operator Corporation.

Description: California Independent System Operator Corporation submits tariff filing per 35: 2010-09-03 CAISO CRR Credit Policy Compliance Filing to be effective 9/1/2010.

Filed Date: 09/03/2010.

Accession Number: 20100903-5175.

Comment Date: 5 p.m. Eastern Time on Friday, September 24, 2010.

Docket Numbers: ER10-1750-001.

Applicants: Stream Energy Pennsylvania, LLC.

Description: Stream Energy Pennsylvania, LLC et al. submits additional information requested by FERC Staff for Attachments A and B to the pending market-based rate applications.

Filed Date: 09/02/2010.

Accession Number: 20100902-0217.

Comment Date: 5 p.m. Eastern Time on Thursday, September 23, 2010.

Docket Numbers: ER10-1751-001.

Applicants: SGE Energy Sourcing, LLC.

Description: Stream Energy Pennsylvania, LLC et al. submits additional information requested by FERC Staff for Attachments A and B to the pending market-based rate applications.

Filed Date: 09/02/2010.

Accession Number: 20100902-0217.

Comment Date: 5 p.m. Eastern Time on Thursday, September 23, 2010.

Docket Numbers: ER10-1805-002.

Applicants: Public Service Company of New Hampshire.

Description: Public Service Company of New Hampshire submits tariff filing per 35: Certificate of Concurrence to be effective 7/19/2010.

Filed Date: 09/03/2010.

Accession Number: 20100903-5204.

Comment Date: 5 p.m. Eastern Time on Friday, September 24, 2010.

Docket Numbers: ER10-1809-001.

Applicants: RED-Scotia, LLC.

Description: RED-Scotia, LLC submits tariff filing per 35.17(b): Supplement to Market-Based Rate Application of RED-Scotia, LLC to be effective 7/19/2010.

Filed Date: 09/03/2010.

Accession Number: 20100903-5187.

Comment Date: 5 p.m. Eastern Time on Friday, September 24, 2010.

Docket Numbers: ER10-2120-001.

Applicants: Virginia Electric and Power Company.

Description: Virginia Electric and Power Company submits tariff filing per 35.17(b): Amendment to WMBR Tariff to be effective 6/30/2010.

Filed Date: 09/02/2010.

Accession Number: 20100902-5163.

Comment Date: 5 p.m. Eastern Time on Thursday, September 23, 2010.

Docket Numbers: ER10-2522-000.

Applicants: Top of the World Wind Energy, LLC.

Description: Top of the World Wind Energy, LLC submits their Initial Market-Based Rate Application and Tariff Filing, to be effective 9/3/2010.

Filed Date: 09/02/2010.

Accession Number: 20100902-5130.

Comment Date: 5 p.m. Eastern Time on Thursday, September 23, 2010.

Docket Numbers: ER10-2523-000.

Applicants: Midwest Independent Transmission System Operator, Inc.

Description: Midwest Independent Transmission System Operator, Inc. submits tariff filing per 35.13(a)(2)(iii): MidAmerican-NIPCO IA to be effective 9/7/2010.

Filed Date: 09/02/2010.

Accession Number: 20100902-5155.

Comment Date: 5 p.m. Eastern Time on Thursday, September 23, 2010.

Docket Numbers: ER10-2524-000.

Applicants: Midwest Independent Transmission System.

Description: Midwest Independent Transmission System Operator, Inc. submits tariff filing per 35.13(a)(2)(iii): Cap X-Fargo T-T (SA 2236) to be effective 9/3/2010.

Filed Date: 09/02/2010.

Accession Number: 20100902-5160.

Comment Date: 5 p.m. Eastern Time on Thursday, September 23, 2010.

Docket Numbers: ER10-2525-000.

Applicants: California Independent System Operator Corporation.

Description: California Independent System Operator Corporation submits tariff filing per 35: 2010-09-03 CAISO Service Agreement 798 to be effective 9/1/2010.

Filed Date: 09/03/2010.

Accession Number: 20100903-5001.

Comment Date: 5 p.m. Eastern Time on Friday, September 24, 2010.

Docket Numbers: ER10-2526-000.

Applicants: Lighthouse Energy Trading Company, Inc.

Description: Lighthouse Energy Trading Company, Inc. submits tariff filing per 35.12: Lighthouse Energy—FERC Electric Tariff, Volume No. 1 to be effective 9/3/2010.

Filed Date: 09/03/2010.

Accession Number: 20100903-5015.

Comment Date: 5 p.m. Eastern Time on Friday, September 24, 2010.

Docket Numbers: ER10-2527-000.

Applicants: Allegheny Ridge Wind Farm, LLC.

Description: Allegheny Ridge Wind Farm, LLC submits tariff filing per 35.12: Baseline Market-Based Rates to be effective 9/3/2010.

Filed Date: 09/03/2010.

Accession Number: 20100903-5060.

Comment Date: 5 p.m. Eastern Time on Friday, September 24, 2010.

Docket Numbers: ER10-2528-000.

Applicants: Aragonne Wind LLC.

Description: Aragonne Wind LLC submits tariff filing per 35.12: Baseline Market-Based Rates to be effective 9/3/2010.

Filed Date: 09/03/2010.

Accession Number: 20100903-5061.

Comment Date: 5 p.m. Eastern Time on Friday, September 24, 2010.

Docket Numbers: ER10-2529-000.

Applicants: Buena Vista Energy, LLC.

Description: Buena Vista Energy, LLC submits tariff filing per 35.12: Baseline Market-Based Rates to be effective 9/3/2010.

Filed Date: 09/03/2010.

Accession Number: 20100903-5062.

Comment Date: 5 p.m. Eastern Time on Friday, September 24, 2010.

Docket Numbers: ER10-2530-000.

Applicants: Caprock Wind LLC.

Description: Caprock Wind LLC submits tariff filing per 35.12: Baseline Market-Based Rates to be effective 9/3/2010.

Filed Date: 09/03/2010.

Accession Number: 20100903-5063.

Comment Date: 5 p.m. Eastern Time on Friday, September 24, 2010.

Docket Numbers: ER10-2531-000.

Applicants: Cedar Creek Wind Energy, LLC.

Description: Cedar Creek Wind Energy, LLC submits tariff filing per 35.12: Baseline Market-Based Rates to be effective 9/3/2010.

Filed Date: 09/03/2010.

Accession Number: 20100903-5064.

Comment Date: 5 p.m. Eastern Time on Friday, September 24, 2010.

Docket Numbers: ER10-2532-000.

Applicants: Crescent Ridge LLC.

Description: Crescent Ridge LLC submits tariff filing per 35.12: Baseline Market-Based Rates to be effective 9/3/2010.

Filed Date: 09/03/2010.

Accession Number: 20100903-5065.

Comment Date: 5 p.m. Eastern Time on Friday, September 24, 2010.

Docket Numbers: ER10-2533-000.

Applicants: GSG, LLC.

Description: GSG, LLC submits tariff filing per 35.12: Baseline Market-Based Rates to be effective 9/3/2010.

Filed Date: 09/03/2010.

Accession Number: 20100903-5066.

Comment Date: 5 p.m. Eastern Time on Friday, September 24, 2010.

Docket Numbers: ER10-2534-000.

Applicants: Kumeyaay Wind LLC.

Description: Kumeyaay Wind LLC submits tariff filing per 35.12: Baseline Market-Based Rates to be effective 9/3/2010.

Filed Date: 09/03/2010.

Accession Number: 20100903-5067.

Comment Date: 5 p.m. Eastern Time on Friday, September 24, 2010.

Docket Numbers: ER10-2535-000.

Applicants: Mendota Hills, LLC.

Description: Mendota Hills, LLC submits tariff filing per 35.12: Baseline Market-Based Rates to be effective 9/3/2010.

Filed Date: 09/03/2010.

Accession Number: 20100903-5068.

Comment Date: 5 p.m. Eastern Time on Friday, September 24, 2010.

Docket Numbers: ER10-2536-000.

Applicants: Westar Energy, Inc.

Description: Westar Energy, Inc. submits tariff filing per 35.13(a)(2)(iii): Westar Energy, Electric Interconnection Agreement, Addendum No. 5 to be effective 1/1/2011.

Filed Date: 09/03/2010.

Accession Number: 20100903-5074.

Comment Date: 5 p.m. Eastern Time on Friday, September 24, 2010.

Docket Numbers: ER10-2537-000.

Applicants: Midwest Independent Transmission System Operator, Inc.

Description: Midwest Independent Transmission System Operator, Inc. submits tariff filing per 35.13(a)(2)(iii): ATSI-FE Nuclear IA to be effective 9/4/2010.

Filed Date: 09/03/2010.

Accession Number: 20100903-5110.

Comment Date: 5 p.m. Eastern Time on Friday, September 24, 2010.

Docket Numbers: ER10-2538-000.

Applicants: Panoche Energy Center, LLC.

Description: Panoche Energy Center, LLC submits tariff filing per 35.12: Panoche Energy Center, LLC FERC Electric Tariff No. 1 to be effective 9/3/2010.

Filed Date: 09/03/2010.

Accession Number: 20100903-5114.

Comment Date: 5 p.m. Eastern Time on Friday, September 24, 2010.

Docket Numbers: ER10-2539-000.

Applicants: New York Independent System Operator, Inc.

Description: New York Independent System Operator submits tariff filing per 35.13(a)(2)(iii): GADS sanctions to be effective 11/3/2010.

Filed Date: 09/03/2010.

Accession Number: 20100903-5134.

Comment Date: 5 p.m. Eastern Time on Friday, September 24, 2010.

Docket Numbers: ER10-2540-000.

Applicants: Midwest Independent Transmission System Operator, Inc.

Description: Midwest Independent Transmission System Operator, Inc. submits tariff filing per 35.13(a)(2)(iii): NIPSCO-Horizon FCA to be effective 9/4/2010.

Filed Date: 09/03/2010.

Accession Number: 20100903-5171.

Comment Date: 5 p.m. Eastern Time on Friday, September 24, 2010.

Docket Numbers: ER10-2541-000.

Applicants: Maple Analytics, LLC.

Description: Maple Analytics, LLC submits tariff filing per 35.12: Maple Analytics, LLC 205 to be effective 10/3/2010.

Filed Date: 09/03/2010.

Accession Number: 20100903-5212.

Comment Date: 5 p.m. Eastern Time on Friday, September 24, 2010.

Docket Numbers: ER10-2542-000.

Applicants: New York Independent System Operator.

Description: New York Independent System Operator submits tariff filing per 35.13(a)(2)(iii): Site/Interconnection Agreements between O&R and AER NY-Gen to be effective 9/9/2010.

Filed Date: 09/03/2010.

Accession Number: 20100903-5218.

Comment Date: 5 p.m. Eastern Time on Friday, September 24, 2010.

Docket Numbers: ER10-2543-000.

Applicants: Verso Androscoggin LLC.

Description: Verso Androscoggin LLC submits its baseline tariff filing FERC Electric Tariff, Volume No. 1, to be effective 9/7/2010.

Filed Date: 09/07/2010.

Accession Number: 20100907-5014.

Comment Date: 5 p.m. Eastern Time on Tuesday, September 28, 2010.

Docket Numbers: ER10-2544-000.

Applicants: RMH Energy, LP.

Description: RMH Energy, LP submits tariff filing per 35.12: RMH Energy—FERC Electric Tariff Volume No. 1 to be effective 9/7/2010.

Filed Date: 09/07/2010.

Accession Number: 20100907-5015.

Comment Date: 5 p.m. Eastern Time on Tuesday, September 28, 2010.

Docket Numbers: ER10-2545-000.

Applicants: Commonwealth Edison Company.

Description: Commonwealth Edison Company submits filing to add a new schedule to ComEd's Attachments H913—Attachments H-13C, Determination of Capacity Peak Contributions and Network Service Peak Load Contributions, etc.

Filed Date: 09/03/2010.

Accession Number: 20100907-0205.

Comment Date: 5 p.m. Eastern Time on Friday, September 24, 2010.

Docket Numbers: ER10-2547-000.

Applicants: PJM Interconnection, LLC.

Description: PJM Interconnection, LLC submits an executed interconnection service agreement etc.

Filed Date: 09/03/2010.

Accession Number: 20100907-0207.

Comment Date: 5 p.m. Eastern Time on Friday, September 24, 2010.

Docket Numbers: ER10-2548-000.

Applicants: Interstate Power and Light Company.

Description: Interstate Power and Light Company et al., submits the proposed Local Balancing Area Operations Coordination Agreement with Pioneer Prairie Wind, to be effective 9/8/2010.

Filed Date: 09/07/2010.

Accession Number: 20100907-5017.

Comment Date: 5 p.m. Eastern Time on Tuesday, September 28, 2010.

Docket Numbers: ER10-2549-000.

Applicants: Kit Carson Windpower, LLC.

Description: Kit Carson Windpower, LLC submits tariff filing per 35.12: Initial Market Based-Rate Application and Tariff Filing to be effective 11/7/2010.

Filed Date: 09/07/2010.

Accession Number: 20100907-5119.

Comment Date: 5 p.m. Eastern Time on Tuesday, September 28, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-22951 Filed 9-14-10; 8:45 am]

BILLING CODE 6717-01-P